DEPARTMENT OF AGRICULTURE

National Institute of Food and Agriculture

Notice of Intent To Revise a Currently Approved Information Collection

AGENCY: National Institute of Food and Agriculture.

ACTION: Notice and request for comments.

SUMMARY: In accordance with the Paperwork Reduction Act of 1995 and Office of Management and Budget (OMB) regulations at 5 CFR part 1320 (60 FR 44977, August 29, 1995), this notice announces the National Institute of Food and Agriculture's (NIFA) intention to revise a currently approved information collection entitled, “Research, Education, and Extension project online reporting tool (REEport).”

DATES: Written comments on this notice must be received by May 4, 2016, to be assured of consideration. Comments received after that date will be considered to the extent practicable.

ADDRESSES: Written comments may be submitted by any of the following methods: Email: rmartin@nifa.usda.gov; Fax: 202-720-0857; Mail: Office of Information Technology (OIT), NIFA, USDA, STOP 2216, 1400 Independence Avenue SW., Washington, DC 20250-2216.

FOR FURTHER INFORMATION CONTACT: Robert Martin, Records Officer; email: rmartin@nifa.usda.gov.

SUPPLEMENTARY INFORMATION:

Title: Reporting Requirements for Research, Education, and Extension project online reporting tool (REEport).

OMB Number: 0524-0048.

Expiration Date of Current Approval: January 30, 2018.

Type of Request: Revision of a currently approved information collection.

Abstract: The United States Department of Agriculture (USDA), NIFA administers several competitive, peer-reviewed research, education, and extension programs, under which awards of a high-priority are made. These programs are authorized pursuant to the authorities contained in the National Agricultural Research, Extension, and Teaching Policy Act of 1977, as amended (7 U.S.C. 3101 et seq.); the Smith-Lever Act (7 U.S.C. 341 et seq.); and other legislative authorities. NIFA also administers several capacity funded research programs. The programs are authorized pursuant to the authorities contained in the McIntire-Stennis Cooperative Forestry Research Act of October 10, 1962 (16 U.S.C. 582a-1-582a-7); the Hatch Act of 1887, as amended (7 U.S.C. 4361a-361i); Section 1445 of Public Law 95-113, the Food and Agriculture Act of 1977, as amended (7 U.S.C. 3222); and Section 1433 of Subtitle E (Sections 1429-1439), Title XIV of Public Law 95-113, as amended (7 U.S.C. 3191-3201). Each capacity funded program is subject to a set of administrative requirements. The purpose of this revision is to collect new pieces of information from grantees funded by NIFA which are needed to complete reports by NIFA and its stakeholders. NIFA proposes to require reporting on the following data in addition to the data already approved in the Research Performance Progress Report (RPPR).

Add to Participants' Page

Of the faculty and non-student FTEs in the table below how many FTEs are new staff?

Role | Faculty and non-students
Scientist | X.X
Professional | X.X
Technical | X.X
Administrative | X.X
Other | X.X
Computed Total | (X.X)

Volunteer Number and Hours

Indicate the number of volunteers and number of hours volunteered for persons who worked in this grant project/program.

Type of volunteer | Number | Number of hours
Adults | XXXXXXX | XXXXX.X
Youth | XXXXXXX | XXXXX.X
Computed Total | (XXXXXXX) | (XXXXX.X)

Add to Target Audience Page

Provide information on the type and number of participants who directly benefited from this grant program.

Participant type | Number
Youth | XXXXXXXX
Adults | XXXXXXXX
Farmers | XXXXXXXX
Faculty | XXXXXXXX

Provide the following demographic information for participants who benefited directly from your grant project/program.

Provide the gender of participants:

Gender | Number
Male |
Female |
Do not Wish to Provide (or Unknown) |

Ethnicity of participants:

Ethnicity | Number
Hispanic or Latino |
Not-Hispanic or Not-Latino |
Do not Wish to Provide (or Unknown) |

Number of participants of the following race categories:

Race | Adult | Youth
American Indian or Alaska Native | XXXXXXX | XXXXXXX
Asian | XXXXXXX | XXXXXXX
Black or African American | XXXXXXX | XXXXXXX
Native Hawaiian or Other Pacific Islander | XXXXXXX | XXXXXXX
White | XXXXXXX | XXXXXXX
Do not Wish to Provide (or Unknown) | XXXXXXX | XXXXXXX

Number of participants with disabilities:

Disability status | Number
Yes | XXXXXXX
No | XXXXXXX
Do not Wish to Provide (or Unknown) | XXXXXXX

Add to Activities Page

Indicate the type and number of activities carried out as part of this grant project/program.

Type of activity | Number
Experiments | XXXXXXX
Teaching | XXXXXXX
Mentoring | XXXXXXX
Surveys | XXXXXXX
Domestic Conferences | XXXXXXX
International Conferences | XXXXXXX
Demonstrations | XXXXXXX
Symposia, Workshops, and Trainings | XXXXXXX

Add to Products Page

Addition to Patent(s) and Plant Variety Protection(s) (PVP) Product Line

Drop down list indicating the following:

Invention.
License.
Patent Awarded.
Patent Application.
PVP Awarded.
PVP Application.

Date Issued (For Patent, XX/XX/XXXX License, or PVP):

Add to Other Products Page

Add the following to the drop down list

—Decision Support Tools

—Business Start-ups

Please indicate the number of Web site Hits: XXXXXXXX.

Add to Outcomes Page

Enter number of dollars generated for products sold as a result of this grant annually, and one-time sale of inventions, technology, technique, etc.

Type | Dollars
Annual for Products Sold | XXXXXXXXXXX
One-time sale of Inventions, Etc | XXXXXXXXXXX

Enter the number of domestic and international students engaged in experiential learning (includes internships).

Type of student | Number domestic | Number international
Secondary School | XXXXXXX | XXXXXXX
Undergraduate | XXXXXXX | XXXXXXX
Graduate | XXXXXXX | XXXXXXX
Post-Doctoral | XXXXXXX | XXXXXXX
Computed Total | (XXXXXXX) | (XXXXXXX)

Enter the number of domestic and international students receiving direct benefits (fellowships, scholarships, assistantships).

Type of student | Number domestic | Number international
Secondary school | XXXXXXX | XXXXXXX
Undergraduate | XXXXXXX | XXXXXXX
Graduate | XXXXXXX | XXXXXXX
Post-Doctoral | XXXXXXX | XXXXXXX
Computed Total | (XXXXXXX) | (XXXXXXX)

Number of participants who report new leadership role in the community: XXXXXXXX.

Childhood Obesity Prevention Challenge Area

Enter the number of people who have adopted effective behavioral, social, and environmental interventions to prevent childhood obesity: XXXXXXXX.

Enter the number of children who increased intake of fruit and vegetables: XXXXXXX.

Enter the number of dollars saved in food costs by participants: $XXXXXXXXXX.

Climate Variability and Change Challenge Area

Enter the number of participants who have adopted mitigation strategies for agro-ecosystems and natural resource systems: XXXXXXXXXX.

Enter the number of prototypes that demonstrate new or improved processes, systems, models, or technologies to reduce agriculture's environmental footprint: XXXXXXXXXX.

Food Safety Challenge Area

Enter the number of participants adopting safer food handling practices at home: XXXXXXXXXX.

Enter the number of new food safety management practices developed: XXXXXXXXXX.

Enter the number of prototypes that demonstrate new or improved processes, systems, models, or technologies to reduce the presence of contaminants in our food systems: XXXXXXXXX.

Food Security Challenge Area

Enter the number of technologies and practices adopted to enhance food security: XXXXXXXXXX.

Enter the number of traits developed with the capability to predict phenotype from genotype (sequence) on a large scale: XXXXXXXXXX.

Enter the number of new high density SNP or genome sequences to allow capture of genetic diversity and to accurately determine the genotype-phenotype relationships to improve production: XXXXXXXXX.

Enter the number of germplasm with new traits, breeding lines/varieties released for crops, fruits, and vegetable production: XXXXXXXX.

Sustainable Bioenergy Challenge Area

Enter the number of sustainable strategies adopted for regional systems that materially deliver liquid transportation biofuels: XXXXXXXX.

Enter the number of prototypes that demonstrate new or improved processes, systems, models, or technologies for bioenergy, bioprocessing, or waste utilization technologies to help the U.S. move toward energy independence: XXXXXXXX.

Water Challenge Area

Enter the number of management practices, technologies, and tools adopted by farmers, ranchers, forest owners and managers: XXXXXXXX.

Enter the number of prototypes that demonstrate new or improved processes, systems, models, or technologies to reduce the consumption of water in agriculture or promote the conservation of water: XXXXXXX.

Consumer and Industry Outreach, Policy, Markets and Trade

Enter the number of research findings that demonstrate a benefit of combine bio-physical and social science research: XXXXXX.

Enter the number of strategies and models of coexistence of multiple crop technologies throughout the supply chain: XXXXXXX.

Partnerships Developed

Enter the number of partnerships and new partnerships attributed to the grant project/program:

Type | Number
New Partnerships | XXXXXX
Total Partnerships | XXXXXX

Estimate of the Burden: The total reporting and record keeping requirements for the submission of the new participation, products and outcome data is estimated to average 1 additional hour per response. This estimate is based on a percentage 40 percent of the burden for a full Progress Report as previously approved by the Office of Management and Budget.

Estimated Number of Responses: 8,700.

Estimated Burden per Response: 1 hours.

Estimated Total Annual Burden on Respondents: 8,700 hours.

Frequency of Responses: Annually.

Comments: Comments are invited on: (a) Whether the proposed collection of information is necessary for the proper performance of the functions of the agency, including whether the information will have practical utility; (b) the accuracy of the agency's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments should be sent to the address stated in the preamble.

All responses to this notice will be summarized and included in the request for OMB approval. All comments also will become a matter of public record.

Done at Washington, DC, this 29 day of January 2016.
Catherine E. Woteki,
Under Secretary, Research, Education, and Economics.

[FR Doc. 2016-04188 Filed 2-26-16; 8:45 am]

BILLING CODE 3410-22-P